NATIONAL SCIENCE FOUNDATION

Advisory Panel for Biomolecular Processes; Notice of Meeting

In accordance with the Federal Advisory Committee Act (Pub. L. 92-463, as amended), the National Science Foundation announces the following meeting:

Name: Advisory Panel for Biomolecular Processes (5138) (Panel B).

Date/Time: April 25-27, 2001, 8:30 a.m. to 5 p.m.

Place: National Science Foundation, 4201 Wilson Blvd., Room 310, Arlington, VA.

Type of Meeting: Closed.

Contact Person: Dr. Joanne Tornow, Program Director or Dr. Susan Porter Ridley, Associate Program Manager for Biochemistry of Gene Expression, Room 655 south, National Science Foundation, 4201 Wilson Boulevard, Arlington, Virginia 22230. Telephone (703) 292-8441.

Purpose of Meeting: To provide advice and recommendations concerning proposals submitted to NSF for financial support.

Agenda: To review and evaluate research proposals submitted to the Biochemistry of Gene Expression Program as part of the selection process for awards.

Reason for Closing: The proposals being reviewed include information of a proprietary or confidential nature, including, technical information; financial data, such as salaries and personal information concerning individuals associated with the proposals. These matters are exempt under 5 U.S.C. 552b(c) (4) and (6) of the Government in the Sunshine Act.

Dated: March 13, 2001.
Susanne Bolton,
Committee Management Officer.

[FR Doc. 01-6591 Filed 3-15-01; 8:45 am]

BILLING CODE 7555-01-M